FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 201120-001.

Title: License and concession agreement.

Parties:

Port of Oakland Marine Terminals Corporation.

Synopsis: The agreement amendment provides for, among other things, a special wharfage rate for certain steel cargo.

By Order of the Federal Maritime Commission.
Dated: October 12, 2001.
Bryant L. VanBrakle,
Secretary.

[FR Doc. 01-26142 Filed 10-16-01; 8:45 am]

BILLING CODE 6730-01-P